DEPARTMENT OF STATE

[Public Notice 6667]

Industry Advisory Panel: Notice of Open Meeting

The Industry Advisory Panel of Overseas Buildings Operations will meet on Thursday, September 3, 2009 from 9:30 a.m. until 3:30 p.m. Eastern Standard Time. The meeting will be held in room 1107 of the U.S. Department of State, located at 2201 C Street, NW. (entrance on 23rd Street), Washington, DC. For logistical and security reasons, it is imperative that everyone enter and exit using only the 23rd Street entrance. The majority of the meeting will be devoted to an exchange of ideas between the Department's Bureau of Overseas Buildings Operations' senior management and the panel members, on design, operations, and building maintenance. There will be a reasonable time provided for members of the public to provide comment.

Entry to the building is controlled; to obtain pre-clearance for entry, members of the public planning to attend should provide, by August 21, 2009, their name, professional affiliation, date of birth, citizenship, and a valid government-issued ID number (i.e., U.S. government ID, U.S. military ID, passport, or drivers license with state) by e-mailing: iapr@state.gov. Requests for reasonable accommodation should be sent to the same e-mail address by August 27th. Requests made after that time will be considered, but might not be able to be fulfilled. Because of space restrictions, we request that companies interested in attending send only one representative.

If you have any questions, please contact Jonathan Blyth at BlythJJ@State.Gov or on (703) 875-4131.

Dated: July 29, 2009.
Adam Namm,
Director, Acting, Bureau of Overseas Building Operations, Department of State.

[FR Doc. E9-19363 Filed 8-11-09; 8:45 am]

BILLING CODE 4710-24-P